ENVIRONMENTAL PROTECTION AGENCY

[OARM-2004-0001, FRL-7809-9]

Agency Information Collection Activities: Proposed Collection; Comment Request; General Administrative Requirements for Assistance Programs, EPA ICR Number 0938.09, OMB Control Number 2030-0020

AGENCY: Environmental Protection Agency (EPA).

ACTION: Notice.

SUMMARY: In compliance with the Paperwork Reduction Act (44 U.S.C. 3501 et seq.), this document announces that EPA is planning to submit a proposed Information Collection Request (ICR) to the Office of Management and Budget (OMB). This is a request for a new collection. Before submitting the ICR to OMB for review and approval, EPA is soliciting comments on specific aspects of the proposed information collection as described below.

DATES: Comments must be submitted on or before October 18, 2004.

ADDRESSES: Submit your comments, referencing docket ID number OARM-2004-0001, to EPA online using EDOCKET (our preferred method), by e-mail to oei.docket@epa.gov, or by mail to: EPA Docket Center, Environmental Protection Agency, Office of Environmental Information Docket-Mail Code 2822IT, 1200 Pennsylvania Ave., NW., Washington, DC 20460.

FOR FURTHER INFORMATION CONTACT: Marguerite Pridgen, Office of Grants and Debarment, Mail Code 3903R, Environmental Protection Agency, 1200 Pennsylvania Ave., NW., Washington, DC 20460; telephone number: (202) 564-5308; fax number: (202) 565-2470; e-mail address: pridgen.marguerite@epa.gov.

SUPPLEMENTARY INFORMATION: EPA has established a public docket for this ICR under Docket ID number OARM-2004-0001, which is available for public viewing at the Office of Environmental Information Docket in the EPA Docket Center (EPA/DC), EPA West, Room B102, 1301 Constitution Ave., NW., Washington, DC. The EPA Docket Center Public Reading Room is open from 8:30 a.m. to 4:30 p.m., Monday through Friday, excluding legal holidays. The telephone number for the Reading Room is (202) 566-1744, and the telephone number for the Office of Environmental Information Docket is (202) 566-1752. An electronic version of the public docket is available through EPA Dockets (EDOCKET) at http­://www.epa.gov/edocket. Use EDOCKET to obtain a copy of the draft collection of information, submit or view public comments, access the index listing of the contents of the public docket, and to access those documents in the public docket that are available electronically. Once in the system, select “search,” then key in the docket ID number identified above.

Any comments related to this ICR should be submitted to EPA within 60 days of this notice. EPA's policy is that public comments, whether submitted electronically or in paper, will be made available for public viewing in EDOCKET as EPA receives them and without change, unless the comment contains copyrighted material, CBI, or other information whose public disclosure is restricted by statute. When EPA identifies a comment containing copyrighted material, EPA will provide a reference to that material in the version of the comments that is placed in EDOCKET. The entire printed comment, including the copyrighted material, will be available in the public docket. Although identified as an item in the official docket, information claimed as CBI, or whose disclosure is otherwise restricted by statue, is not included in the official public docket, and will not be available for public viewing in EDOCKET. For further information about the electronic docket, see EPA's Federal Register notice describing the electronic docket at 67 FR 38102 (May 31, 2002), or go to http://www.epa.gov/edocket.

Affected entities: Entities potentially affected by this action are non-profit organizations applying for EPA assistance awards, including grants and cooperative agreements.

Title: General Administrative Requirements For Assistance Programs.

Abstract: The Environmental Protection Agency (EPA) is establishing procedures for assessing administrative capability of non-profit organizations applying for EPA assistance agreements. Under the new procedures, EPA will require non-profit applicants recommended for award to complete a checklist entitled “EPA Administrative Capability Questionnaire” and return it to EPA with supporting documentation. The responses to the form will be a basis for assessing administrative capability and deciding whether to make awards to the non-profit applicant. Applicants that provide information that demonstrates they are administratively capable will be “certified” for a specified period (e.g., four years) and therefore, would not have to resubmit the questionnaire and supporting documents during that time unless administrative management issues arise before the certification period has ended. This Notice invites comments on the proposed data collection effort.

In applying for a non-construction, discretionary grant from EPA, each applicant is currently required to complete and submit Standard Form (SF) series forms SF 424, SF 424A, and SF 424B. By signing the SF 424B, “Assurances—Non-Construction Programs,” the applicant is assuring compliance with various statutory and regulatory requirements (40 CFR Part 30—Grants and Agreements with Institutions of Higher Education, Hospitals, and other Non-Profit Organizations) and is assuring that it “[h]as the * * * institutional, managerial and financial capability (including funds sufficient to pay the non Federal share of project cost) to ensure proper planning, management and completion of the project described in this application.” Despite this assurance of administrative and programmatic capability, EPA's Office of the Inspector General and Office of Grants and Debarment within EPA's Office of Administration and Resources Management have documented numerous instances of non-profit recipients that have inadequate administrative systems to manage EPA funds or lack the capability to successfully perform the project scope of work.

Recognizing that it is preferable to address such issues before, rather than after an assistance agreement is awarded, EPA is prescribing uniform pre-award procedures for evaluating the administrative and programmatic capability of non-profit applicants. Specifically, EPA will require that non-profit applicants recommended for award complete a checklist entitled “EPA Administrative Capability Questionnaire” and return it to the designated EPA office with supporting documentation. Note that much of the information to be collected in the proposed questionnaire is currently being collected from assistance agreement recipients during EPA's post-award monitoring activities (ref.: OMB 2030-0020, Expiration date 12/31/05). In addition, 40 CFR Part 30 currently requires non-profit organizations that receive EPA assistance agreements to maintain documentation supporting their administrative capability.

For purposes of this Notice, EPA uses the term “administrative capability” to mean the capability of an applicant to develop and implement administrative systems required by 40 CFR Part 30, including systems related to financial management, property management, procurement standards and financial reporting and record-keeping.

As part of its pre-award procedures, EPA is considering whether to collect information on programmatic capability from non-profit organizations that apply for non-competitive grants. For purposes of this Notice, EPA uses the term “programmatic capability” to mean the technical capability of an applicant to successfully carry out a project, taking into account factors such as past performance on similar projects, prior experience, timely progress reporting, the qualifications of key personnel and allocation of roles and responsibilities for proper project management, and the adequacy of equipment, resources and facilities.

An agency may not conduct or sponsor, and a person is not required to respond to, a collection of information unless it displays a currently valid OMB control number. The OMB control numbers for EPA's regulations in 40 CFR are listed in 40 CFR Part 9.

The EPA would like to solicit comments to:

(i) Evaluate whether the proposed collection of information is necessary for the proper performance of the functions of the Agency, including whether the information will have practical utility;

(ii) Evaluate the accuracy of the Agency's estimate of the burden of the proposed collection of information, including the validity of the methodology and assumptions used;

(iii) Enhance the quality, utility, and clarity of the information to be collected; and

(iv) Minimize the burden of the collection of information on those who are to respond, including through the use of appropriate automated electronic, mechanical, or other technological collection techniques or other forms of information technology, e.g., permitting electronic submission of responses.

Burden Statement: The EPA estimates the average annual reporting burden for non-profit applicants recommended for award to complete the “Administrative Capability Questionnaire” to be 2 hours. In the first year of the new pre-award procedures, EPA will only require non-profit applicants recommended for new assistance awards of greater than $100,000 to provide this information. The estimated applicant pool for these awards is 210, which results in a burden of 420 hours (210 × 2 hours). In subsequent years, EPA may require all non-profit applicants recommended for new awards to provide this information. Based on a total non-profit applicant pool of approximately 700, the resultant burden would be 1400 hours (700 X 2).

The EPA estimates the average annual reporting burden for non-profit applicants recommended for award to provide programmatic capability information to be 6 hours. The Agency also estimates that 35% of the 700 new awards to non-profit organizations—245 awards—would be made non-competitively. The resultant burden would be 1470 hours (245 × 6 hours).

Burden means the total time, effort, or financial resources expended by persons to generate, maintain, retain, or disclose or provide information to or for a Federal agency. This includes the time needed to review instructions; develop, acquire, install, and utilize technology and systems for the purposes of collecting, validating, and verifying information, processing and maintaining information, and disclosing and providing information, adjust the existing ways to comply with any previously applicable instructions and requirements; train personnel to be able to respond to a collection of information; search data sources; complete and review the collection of information; and transmit or otherwise disclose the information.

Dated: August 13, 2004.
Howard Corcoran,
Acting Assistant Administrator, Office of Administration and Resources Management.

[FR Doc. 04-19049 Filed 8-18-04; 8:45 am]

BILLING CODE 6560-50-P